DEPARTMENT OF LABOR

Employment and Training Administration

[TA-W-61,385]

The Nielsen Company; Fond Du Lac, WI; Dismissal of Application for Reconsideration

Pursuant to 29 CFR 90.18(C) an application for administrative reconsideration was filed with the Director of the Division of Trade Adjustment Assistance for workers at The Nielsen Company, Fond du Lac, Wisconsin. The application did not contain new information supporting a conclusion that the determination was erroneous, and also did not provide a justification for reconsideration of the determination that was based on either mistaken facts or a misinterpretation of facts or of the law. Therefore, dismissal of the application was issued.

TA-W-61,385; The Nielsen Company, Fond du Lac, Wisconsin (July 24, 2007).

Signed at Washington, DC this 30th day of July 2007.
Richard Church,
Certifying Officer, Division of Trade Adjustment Assistance.

[FR Doc. E7-15538 Filed 8-8-07; 8:45 am]

BILLING CODE 4510-FN-P